DEPARTMENT OF DEFENSE

Office of the Secretary

[Transmittal No. 15-36]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 15-36 with attached transmittal, policy justification, and Sensitivity of Technology.

Dated: May 29, 2015.
Aaron Siegel,
Alternate OSD Federal Register Liaison Officer, Department of Defense.

BILLING CODE 5001-06-P

BILLING CODE 5001-06-C

Transmittal No. 15-36

Notice of Proposed Issuance of Letter of Offer Pursuant to Section 36(b)(1) of the Arms Export Control Act, as amended

(i) Prospective Purchaser: Israel

(ii) Total Estimated Value:

Major Defense Equipment * | $1.353 billion
Other | $ .526 billion
TOTAL | $1.879 billion
* as defined in Section 47(6) of the Arms Export Control Act.

(iii) Description and Quantity or Quantities of Articles or Services under Consideration for Purchase: 14,500 KMU-556C/B Joint Direct Attack Munitions (JDAM) tail kits consisting of 10,000 for Mk-84; 500 for Mk-83; and 4,000 for Mk-82; 3,500 Mk-82 bombs; 4,500 Mk-83 bombs; 50 BLU-113 bombs; 4,100 GBU-39 Small Diameter bombs; 1,500 Mk-83 Paveway kits; 700 BLU-109 Paveway kits; 3,000 AGM-114K/R Hellfire Missiles, 250 AIM-120C-7 Advanced Medium Range Air-to-Air Missiles; and 500 DSU-38A/B Detector Laser Illuminated Target kits for JDAMs.

(iv) Military Department: Air Force (YAB)

(v) Prior Related Cases, if any:

FMS case YEQ-$34M-9Feb00

FMS case YET-$22M-9Sep02

FMS case YEV-$18M-16Jul04

FMS case YEX-$18M-14Jul04

FMS case AMD-$3M-6Jul06

FMS case AMF-$4M-18Jul06

FMS case AMG-$44M-18Jul06

FMS case AMH-$3M-25Jul06

FMS case AMI-$12M-23Jul06

FMS case AMJ-$18M-25Jul06

FMS case AMK-$6M-25Jul06

FMS case AML-$5M-5Oct06

FMS case AMM-$6M-8Jul06

FMS case AMN-$60M-5Oct06

FMS case AMP-$10M-31Aug06

FMS case AMQ-$26-5Oct06

FMS case AMR-$1M-15Sep06

FMS case AMS-$14M-5Mar07

FMS case AMV-$25M-20Jun07

FMS case QDQ-$1M-21Jul06

FMS case ABF-$109M-13Nov14

FMS case QEG-$86M-20Jun13

FMS case ZWX-$47M-29Aug14

(vi) Sales Commission, Fee, etc., Paid, Offered, or Agreed to be Paid: None

(vii) Sensitivity of Technology Contained in the Defense Article or Defense Services Proposed to be Sold: See Attached Annex

(viii) Date Report Delivered to Congress: 18 May 2015

Policy Justification

Israel—Joint Direct Attack Munition Tail Kits and Munitions

The Government of Israel has requested a possible sale of 14,500 KMU-556C/B Joint Direct Attack Munitions (JDAM) tail kits consisting of 10,000 for Mk-84; 500 for Mk-83; and 4,000 for Mk-82; 3,500 Mk-82 bombs; 4,500 Mk-83 bombs; 50 BLU-113 bombs; 4,100 GBU-39 Small Diameter bombs; 1,500 Mk-83 Paveway kits; 700 BLU-109 Paveway kits; 3,000 AGM-114K/R Hellfire Missiles, 250 AIM-120C Advanced Medium Range Air-to-Air Missiles; and 500 DSU-38A/B Detector Laser Illuminated Target kits for JDAMs. The total estimated cost $1.879 billion.

The United States is committed to the security of Israel, and it is vital to U.S. national interests to assist Israel to develop and maintain a strong and ready self-defense capability. This proposed sale is consistent with those objectives.

The proposed sale of this equipment will provide Israel the ability to support its self-defense needs. These munitions will enable Israel to maintain operational capability of its existing systems and will enhance Israel's interoperability with the United States. Israel, which already has these munitions in its inventory, will have no difficulty absorbing the additional munitions into its armed forces.

The proposed sale of these munitions will not alter the basic military balance in the region.

The principal contractors will be The Boeing Company in St. Charles, Missouri; Lockheed-Martin Company in Archbald, Pennsylvania; General Dynamics in Garland, Texas; Elwood National Forge Co. in Irvine, Pennsylvania; and Raytheon Missile Systems in Tucson, Arizona. There are no known offset agreements in connection with this proposed sale.

Implementation of this proposed sale will require travel of U.S. Government or contractor representatives to Israel on a temporary basis for program technical support and management oversight.

There is no adverse impact on U.S. defense readiness as a result of this sale.

Transmittal No. 15-36

Notice of Proposed Issuance of Letter of Offer Pursuant to Section 36(b)(1) of the Arms Export Control Act

Annex

Item No. vii

(vii) Sensitivity of Technology:

1. The Joint Direct Attack Munition (JDAM) is a guidance tail kit that converts unguided free-fall bombs into accurate, adverse weather “smart” munitions. With the addition of a new tail section that contains an inertial navigational system and a global positioning system guidance control unit, JDAM improves the accuracy of unguided, general-purpose bombs in any weather condition. JDAM can be launched from very low to very high altitudes in a dive, toss and loft, or in straight and level flight with an on-axis or off-axis delivery. JDAM enables multiple weapons to be directed against single or multiple targets on a single pass. The JDAM All Up Round (AUR) and all of its components are Unclassified, and technical data for JDAM is classified up to Secret.

2. The GBU-39 Small Diameter Bomb (SDB) is a 250-lb class precision guided munition that is intended to provide aircraft with an ability to carry a high number of bombs. The weapon offers day- or night-, adverse weather-, precision-engagement capability against pre-planned fixed or stationary soft, non-hardened, and hardened targets, and provides greater than 50 Nautical Miles of standoff range. Aircraft are able to carry four SDBs in place of one 2,000-lb bomb. The SDB is equipped with a Global Positioning Satellite (GPS)-aided inertial navigation system. The SDB and all of its components are Unclassified; technical data are classified up to Secret.

3. The AIM-120C-7 Advanced Medium Range Air-to-Air Missile (AMRAAM) is a radar guided missile featuring digital technology and micro-miniature solid-state electronics. AMRAAM capabilities include look-down/shoot-down, multiple launches against multiple targets, resistance to electronic countermeasures, and interception of high- and low-flying and maneuvering targets. The AMRAAM All Up Round (AUR) is classified Confidential, major components and subsystems range from Unclassified to Confidential, and technical data and other documentation are classified up to Secret.

4. The DSU-38A/B is a laser-illuminated target detector that adds a Precision Laser Guidance Set (PLGS) to inventory JDAMs, giving the weapon system optional semi-active laser guidance in addition to its other Global Positioning System/Inrertial Navigation System (GPS/INS) guidance modes. The DSU-38A/B is a DSU-33 form-factored passive laser seeker that can be easily installed in the field to the front of existing JDAM weapons and is connected to the Guidance Set via an externally mounted strap-on harness kit. The DSU-38 provides an additional capability to engage mobile targets moving up to 70 mph. The addition of the DSU-38 Laser sensor combined with additional cabling and mounting hardware turns a standard GBU-38 JDAM into a GBU-54 Laser JDAM. The DSU-38 hardware is Unclassified; technical data and other documentation are classified up to Secret.

5. The AGM-114R Hellfire II is an air-to-ground missile used against heavy and light armored targets, thin-skinned vehicles, urban structures, bunkers, caves and personnel. The missile is Inertial Measurement Unit (IMU) based, with a variable delay fuse, improved safety and reliability. The highest level of release for the Hellfire missile is Secret, based upon the software. The highest level of classified information that could be disclosed by a proposed sale or by testing of the end item is Secret; the highest level that must be disclosed for production, maintenance, or training is Confidential. Reverse engineering could reveal confidential information. Vulnerability data, countermeasures, vulnerability/susceptibility analyses, and threat definitions are classified Secret or Confidential.

6. If a technologically advanced adversary obtained knowledge of the specific hardware and software elements in the systems described above, the information could be used to develop countermeasures that might reduce weapon system effectiveness or be used in the development of a system with similar or advanced capabilities.

7. A determination has been made that Government of Israel can provide substantially the same degree of protection of the sensitive technology associated with these systems as the U.S. Government. This proposed sale is necessary in furtherance of the U.S. foreign policy and national security objectives outlined in the Policy Justification.

8. All defense articles and services listed in this transmittal have been authorized for release and export to the Government of Israel.

[FR Doc. 2015-13478 Filed 6-2-15; 8:45 am]

BILLING CODE 5001-06-P